DEPARTMENT OF THE TREASURY

Office of Foreign Assets Control

31 CFR Part 562

Publication of an Iran-Related Determination

AGENCY: Office of Foreign Assets Control, Treasury.

ACTION: Publication of a determination.

SUMMARY: The Department of the Treasury's Office of Foreign Assets Control (OFAC) is publishing a sector determination pursuant to a January 10, 2020 Executive Order. The determination was previously issued on OFAC's website.

DATES: The determination was issued on October 11, 2024. See SUPPLEMENTARY INFORMATION for additional relevant dates.

FOR FURTHER INFORMATION CONTACT: OFAC: Assistant Director for Licensing, 202-622-2480; Assistant Director for Regulatory Affairs, 202-622-4855; or Assistant Director for Compliance, 202-622-2490 or https://ofac.treasury.gov/contact-ofac.

SUPPLEMENTARY INFORMATION:

Electronic Availability

This document and additional information concerning OFAC are available on OFAC's website: https://ofac.treasury.gov/.

Background

On January 10, 2020, the President, invoking the authority of, inter alia, the International Emergency Economic Powers Act (50 U.S.C. 1701 et seq.) (IEEPA), issued Executive Order (E.O.) 13902 of January 10, 2020, “Imposing Sanctions With Respect to Additional Sectors of Iran” (85 FR 2003, January 14, 2020). Among other prohibitions, section 1(a)(i) of E.O. 13902 blocks, with certain exceptions, all property and interests in property that are in the United States, that come within the United States, or that are or come within the possession or control of any U.S. person of, any person determined by the Secretary of the Treasury, in consultation with the Secretary of State to operate in the construction, mining, manufacturing, or textiles sectors of the Iranian economy, or any other sector of the Iranian economy as may be determined by the Secretary of the Treasury, in consultation with the Secretary of State.

On October 11, 2024, the Secretary of the Treasury, in consultation with the Department of State, determined that section 1(a)(i) of E.O. 13902 shall apply to the petroleum and petrochemical sectors of the Iranian economy. This determination took effect on October 11, 2024.

The determination was made available on OFAC's website (https://ofac.treasury.gov/) when it was issued. The text of the determination is provided below.

Determination Pursuant to Section 1(a)(i) of Executive Order 13902

Petroleum and Petrochemical Sectors of the Iranian Economy

Section 1(a)(i) of Executive Order (E.O.) 13902 of January 10, 2020 (“Imposing Sanctions With Respect to Additional Sectors of Iran”) imposes economic sanctions on any person determined by the Secretary of the Treasury, in consultation with the Secretary of State, to operate in such sectors of the Iranian economy as may be determined by the Secretary of the Treasury, in consultation with the Secretary of State.

To further address the unusual and extraordinary threat to the national security, foreign policy, and economy of the United States described in E.O. 12957 of March 15, 1995 (“Prohibiting Certain Transactions With Respect to the Development of Iranian Petroleum Resources”) and E.O. 13902, and in consultation with the Department of State, I hereby determine that section 1(a)(i) of E.O. 13902 shall apply to the petroleum and petrochemical sectors of the Iranian economy. Any person determined to operate in these sectors shall be subject to sanctions pursuant to section 1(a)(i).

This determination shall take effect on October 11, 2024.

Janet L. Yellen,

Secretary, U.S. Department of the Treasury.

Lisa M. Palluconi,
Acting Director, Office of Foreign Assets Control.

[FR Doc. 2024-26800 Filed 11-18-24; 8:45 am]

BILLING CODE 4810-AL-P